DEPARTMENT OF COMMERCE

U.S. Census Bureau

Submission for OMB Review; Comment Request

The Department of Commerce will submit to the Office of Management and Budget (OMB) for clearance the following proposal for collection of information under the provisions of the Paperwork Reduction Act.

Agency: U.S. Census Bureau.

Title: American Community Survey Methods Panel Tests, 2019 Census Test.

OMB Control Number: 0607-0936.

Form Number(s): DM-QA, DM-QA(E/S), DM-QB, DM-QB(E/S).

Type of Request: Non-Substantive Change Request.

Number of Respondents: 480,000.

Average Hours per Response: 10 minutes for the average household questionnaire.

Burden Hours: No additional burden hours are requested under this non-substantive change request.

Needs and Uses: The U.S. Census Bureau requests authorization from the Office of Management and Budget (OMB) for the American Community Survey (ACS) Methods Panel 2019 Census Test. The purpose of this proposed test is to gather direct, quantitative information on the potential impact of the inclusion of the citizenship question on self-response in the 2020 Census to fine-tune the planning for the 2020 Census Nonresponse Follow-up (NRFU) operation, which is designed to collect responses from addresses that did not self-respond. The potential impact on self-response is of particular interest since it is the primary and most cost-effective mode of data collection in the decennial census. The Census Bureau lacks definitive, empirical evidence on the impact of the inclusion of the citizenship question on self-response in the 2020 Census. The information obtained from this test may also inform the Integrated Partnership and Communications Campaign, which is the outreach campaign to maximize self-response to the 2020 Census.

The 2019 Census Test will use the ACS Methods Panel to conduct the test. This will allow the Census Bureau to continue devoting its full complement of staff resources to 2020 Census operations.

The ACS Methods Panel is a research program designed to address and respond to emerging issues and needs of the Census Bureau's Decennial Census Programs, including the 2020 Census and ACS. Every year, the Census Bureau contacts over 3.5 million sampled addresses across the country to participate in the ACS and hundreds of millions each decade for the decennial census. The complexity of both of these programs requires that the Census Bureau continue research, testing, and evaluations aimed at reducing respondent burden, improving data quality, achieving survey cost efficiencies, and improving questionnaire content and related data collection materials.

For the 2019 Census Test, the Census Bureau will compare two treatments using a randomized controlled experiment. The control treatment questionnaire will ask 2020 Census questions (i.e., number of people, tenure, sex, age, date of birth, Hispanic origin, race, citizenship, relationship to householder, and coverage questions). The experimental treatment questionnaire will ask these same questions minus the citizenship question.

The test will employ a sample size of 480,000 addresses that will be divided evenly between the control and the experimental treatments. This sample size is designed to detect a difference of 0.5 percentage points between the self-response rates of the control and experimental treatments at the national level. The sample, which will be separate from the ACS production sample, will oversample areas with high proportions of non-citizens and historically low self-response rates. The sample construction will allow for limited analysis by race and Hispanic origin.

The test will have a Census Day (reference date) of July 1, 2019. The first mailing will go out mid-June 2019. The data collection period will be nine weeks. Data collection will end mid-August 2019. The test will utilize the 2020 Census mail strategy, including internet First and internet Choice contact strategies, and the use of English-only and English/Spanish bilingual materials. With the internet First contact strategy, the initial mailing only provides instructions for responding online. The initial mailing for the internet Choice contact strategy also includes a paper questionnaire. For each contact strategy, a subset of the areas will receive bilingual materials (English/Spanish).

The 2019 Census Test will be of the household population and will include areas designated to be self-response areas in the 2020 Census, specifically excluding Puerto Rico and the population living in group quarters. The test will be conducted using self-response only. The Census Bureau will also provide telephone questionnaire assistance (TQA). Respondents will be able to call TQA with questions about the survey and may also complete their survey over the phone. TQA can support 10 of the 12 non-English languages supported in the 2020 Census: Spanish, Chinese (Mandarin and Cantonese), Vietnamese, Korean, Russian, Arabic, Tagalog, French, Haitian Creole, and Portuguese. The exceptions are Japanese and Polish.

Preliminary results that can be used to adjust NRFU hiring and refine messaging for the Integrated Partnership and Communications Campaign will be available on a rolling basis. Self-response rates will be available by the end of August 2019, and preliminary results will be available in early October 2019. Final results are expected by spring 2020.

Affected Public: Individuals or households.

Frequency: One-time test.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-03200 Filed 2-22-19; 8:45 am]

BILLING CODE 3510-07-P